NATIONAL TRANSPORTATION SAFETY BOARD

Sunshine Act Meeting Notice

Time and Date: 9:30 a.m., Tuesday, November 17, 2009.

Place: NTSB Conference Center, 429 L'Enfant Plaza, SW., Washington, DC 20594.

Status: The one item is open to the public.

Matter To Be Considered: 8017A Marine Accident Report—Engineroom Fire On Board U.S. Small Passenger Vessel Queen of the West, Columbia River, near Rufus, Oregon, April 8, 2008.

News Media Contact: Telephone: (202) 314-6100.

The press and public may enter the NTSB Conference Center one hour prior to the meeting for set up and seating.

Individuals requesting specific accommodations should contact Rochelle Hall at (202) 314-6305 by Friday, November 13, 2009.

The public may view the meeting via a live or archived Webcast by accessing a link under “News & Events” on the NTSB home page at http://www.ntsb.gov.

FOR MORE INFORMATION CONTACT: Candi Bing, (202) 314-6403.

Dated: October 30, 2009.
Candi R. Bing,
Alternate Federal Register Liaison Officer.

[FR Doc. E9-26612 Filed 11-2-09; 11:15 am]

BILLING CODE 7533-01-P